RAILROAD RETIREMENT BOARD

Sunshine Act Meetings

TIME AND DATE: 9 a.m., December 13, 2023.

PLACE: Members of the public wishing to attend the meeting must submit a written request at least 24 hours prior to the meeting to receive dial-in information. All requests must be sent to SecretarytotheBoard@rrb.gov.

STATUS: This meeting will be open to the public.

MATTERS TO BE CONSIDERED: Office of Legislative Affairs Update.

CONTACT PERSON FOR MORE INFORMATION: Stephanie Hillyard, Secretary to the Board, (312) 751-4920

(Authority: 5 U.S.C. 552b)

Dated: December 1, 2023.
Stephanie Hillyard,
Secretary to the Board.

[FR Doc. 2023-26754 Filed 12-1-23; 11:15 am]

BILLING CODE 7905-01-P